FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, without revision, the Recordkeeping Requirements Associated with Regulation F (FR F; OMB No. 7100-0331).

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/home/review or may be requested from the agency clearance officer, whose name appears above. On the page displayed at the link above, you can find the supporting information by referencing the collection identifier, FR F.

Final Approval Under OMB Delegated Authority of the Extension for Three Years, Without Revision, of the Following Information Collection

Collection title: Recordkeeping Requirements Associated with Regulation F.

Collection identifier: FR F.

OMB control number: 7100-0331.

General description of collection: The Board's Regulation F—Limitations on Interbank Liabilities (12 CFR part 206) establishes limits on depository institutions' credit exposure to individual correspondents in order to mitigate the risk that the failure of a correspondent would pose to an insured depository institution. Section 206.3 of Regulation F requires insured depository institutions to establish and maintain policies and procedures designed to prevent excessive exposure to correspondents.

Frequency: This information collection contains recordkeeping requirements. The creation of written policies and procedures concerning interbank liabilities is a mandatory one-time requirement. Subsequent changes to these policies and procedures would be on occasion, and they must be reviewed and approved by the depository institution's board of directors at least annually. The policies and procedures must be maintained, as amended.

Respondents: All depository institutions insured by the Federal Deposit Insurance Corporation (FDIC). The Board takes burden under the PRA with respect to all such entities.

Total estimated number of respondents: 4,655.

Total estimated annual burden hours: 4,753.

Current actions: On February 16, 2024 the Board published a notice in the Federal Register (89 FR 12344) requesting public comment for 60 days on the extension, without revision, of the FR F. The comment period for this notice expired on April 16, 2024. The Board did not receive any comments.

Board of Governors of the Federal Reserve System, June 25, 2024.
Benjamin W. McDonough,
Deputy Secretary and Ombuds of the Board.

[FR Doc. 2024-14364 Filed 6-28-24; 8:45 am]

BILLING CODE 6210-01-P